DEPARTMENT OF ENERGY

Federal Energy Regulatory Commission

[Project Nos. P-13404-002, P-13405-002, P-13406-002, et al.]

Notice of Application Ready for Environmental Analysis and Soliciting Comments, Recommendations, Terms and Conditions, and Prescriptions

Clean River Power MR-1, LLC | Project Nos. P-13404-002, P-13405-002, P-13406-002, P-13407-002, P-13408-002, and P-13411-002
Clean River Power MR-2, LLC
Clean River Power MR-3, LLC
Clean River Power MR-5, LLC
Clean River Power MR-6, LLC
Clean River Power MR-7, LLC

Take notice that the following hydroelectric applications have been filed with the Commission and are available for public inspection.

a. Type of Applications: Original Major Licenses

b. Project Nos.: 13404-002, 13405-002, 13406-002, 13407-002, 13408-002, and 13411-002

c. Date filed: October 31, 2012

d. Applicants: Clean River Power MR-1, LLC; Clean River Power MR-2, LLC; Clean River Power MR-3, LLC; Clean River Power MR-5, LLC; Clean River Power MR-6, LLC; and Clean River Power MR-7, LLC (Clean River Power), subsidiaries of Free Flow Power Corporation

e. Name of Projects: Beverly Lock and Dam Water Power Project, P-13404-002; Devola Lock and Dam Water Power Project, P-13405-002; Malta/McConnelsville Lock and Dam Water Power Project, P-13406-002; Lowell Lock and Dam Water Power Project, P-13407-002; Philo Lock and Dam Water Power Project, P-13408-002; and Rokeby Lock and Dam Water Power Project, P-13411-002.

f. Locations: At existing locks and dams on the Muskingum River in Washington, Morgan, and Muskingum counties, Ohio (see table below for specific project locations). The locks and dams were formally owned and operated by the U.S. Army Corps of Engineers, but are currently owned and operated by the Ohio Department of Natural Resources, Division of Parks and Recreation.

Project No. | Projects | County(s) | City/town
P-13404-002 | Beverly Lock and Dam | Washington and Morgan | Upstream of the City of Beverly, OH.
P-13405-002 | Devola Lock and Dam | Washington | Near the City of Devola, OH.
P-13406-002 | Malta/McConnelsville Lock and Dam | Morgan | On the southern shore of the Town of McConnelsville, OH.
P-13407-002 | Lowell Lock and Dam | Washington | West of the City of Lowell, OH.
P-13408-002 | Philo Lock and Dam | Muskingum | North of the City of Philo, OH.
P-13411-002 | Rokeby Lock and Dam | Morgan and Muskingum | Near the City of Rokeby, OH.

g. Filed Pursuant to: Federal Power Act 16 U.S.C. 791 (a)-825(r)

h. Applicant Contacts: Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

i. FERC Contact: Aaron Liberty at (202) 502-6862; or email at aaron.liberty@ferc.gov.

j. Deadline for filing comments, recommendations, terms and conditions, and prescriptions: 60 days from the issuance date of this notice; reply comments are due 105 days from the issuance date of this notice.

The Commission strongly encourages electronic filing. Please file the requested information using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-13404-002, 13405-002, 13406-002, 13407-002, 13408-002, and/or 13411-002, as appropriate.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. These applications have been accepted for filing and are now ready for environmental analysis.

l. The proposed Beverly Lock and Dam Project would be located at the existing Beverly Lock and Dam on the Muskingum River at river mile (RM) 24.6. The Beverly dam is a 535-foot-long, 17-foot-high dam that impounds a 490-acre reservoir at a normal pool elevation of 616.36 North American Vertical Datum of 1988 (NAVD 88). The project would also consist of the following new facilities: (1) A 37-foot-long, 52-foot-high, 88-foot-wide intake structure with trash racks containing 2-inch clear bar spacing; (2) a 75-foot by 160-foot powerhouse located downstream of the dam on the left bank of the Muskingum River; (3) two turbine-generator units providing a combined installed capacity of 3.0 megawatts (MW); (4) a 65-foot-long, 75-foot-wide draft tube; (5) a 90-foot-long, 150-foot-wide tailrace; (6) a 40-foot by 40-foot substation; (7) a 970-foot-long, three-phase, overhead 69-kilovolt (kV) transmission line to connect the project substation to the local utility distribution lines; and (8) appurtenant facilities. The average annual generation would be about 17,853 megawatt-hours (MWh).

The proposed Devola Lock and Dam Project would be located at the existing Devola Lock and Dam on the Muskingum River at RM 5.8. The Devola dam is a 587-foot-long, 17-foot-high dam that impounds a 301-acre reservoir at a normal pool elevation of 592.87 NAVD 88. The applicant proposes to remove 187 feet of the existing dam to construct a 154-foot-long overflow weir. The project would also consist of the following new facilities: (1) A 37-foot-long, 52-foot-high, 80-foot-wide intake structure with trash racks containing 2-inch clear bar spacing; (2) a 80-foot by 160-foot powerhouse located on the bank of the Muskingum River opposite the existing lock; (3) two turbine-generator units providing a combined installed capacity of 4.0 MW; (4) a 65-foot-long, 80-foot-wide draft tube; (5) a 125-foot-long, 140-foot-wide tailrace; (6) a 40-foot by 40-foot substation; (7) a 3,600-foot-long, three-phase, overhead 69-kV transmission line to connect the project substation to the local utility distribution lines; and (8) appurtenant facilities. The average annual generation would be about 20,760 MWh.

The proposed Malta/McConnelsville Lock and Dam Project would be located at the existing Malta/McConnelsville dam on the Muskingum River at RM 49.4. The Malta/McConnelsville dam is a 605.5-foot-long, 15.2-foot-high dam that impounds a 442-acre reservoir at a normal pool elevation of 649.48 NAVD 88. The applicant proposes to remove 187.5 feet of the existing dam to construct a 100-foot-long overflow weir. The project would also consist of the following new facilities: (1) A 37-foot-long, 52-foot-high, 80-foot-wide intake structure with trash racks containing 2-inch clear bar spacing; (2) a 80-foot by 160-foot powerhouse located adjacent to the right bank of the dam; (3) two turbine-generator units providing a combined installed capacity of 4.0 MW; (4) a 65-foot-long, 80-foot-wide draft tube; (5) a 100-foot-long, 130-foot-wide tailrace; (6) a 40-foot by 40-foot substation; (7) a 1,500-foot-long, three-phase, overhead 69-kV transmission line to connect the project substation to the local utility distribution lines; and (8) appurtenant facilities. The average annual generation would be about 21,895 MWh.

The proposed Lowell Lock and Dam Project would be located at the existing Lowell dam on the Muskingum River at RM 13.6. The Lowell dam is a 840-foot-long, 18-foot-high dam that impounds a 628-acre reservoir at a normal pool elevation of 607.06 NAVD 88. The applicant proposes to remove 204 feet of the existing dam to construct a 143.5-foot-long overflow weir. The project would also consist of the following new facilities: (1) A 37-foot-long, 23-foot-high, 80-foot-wide intake structure with trash racks that contain 2-inch clear bar spacing; (2) a 75-foot by 160-foot powerhouse located adjacent to the left bank of the dam; (3) two turbine-generator units providing a combined installed capacity of 5 MW; (4) a 65-foot-long, 75-foot-wide draft tube; (5) a 100-foot-long, 125-foot-wide tailrace; (6) a 40-foot by 40-foot substation; (7) a 1,200-foot-long, three-phase, overhead 69-kV transmission line to connect the project substation to the local utility distribution lines; and (8) appurtenant facilities. The average annual generation would be about 30,996 MWh.

The proposed Philo Lock and Dam Project would be located at the existing Philo dam on the Muskingum River at RM 68.6. The Philo dam is a 730-foot-long, 17-foot-high dam that impounds a 533-acre reservoir at a normal pool elevation of 671.39 NAVD 88. The applicant proposes to remove 128 feet of the existing dam to construct a 40-foot-long flap gate. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 3 MW; (4) a 65-foot-long, 80-foot-wide draft tube; (5) a 140-foot-long, 180-foot-wide tailrace; (6) a 40-foot by 40-foot substation; (7) a 1,600-foot-long, three-phase, overhead 69-kV transmission line to connect the project substation to the local utility distribution lines; and (8) appurtenant facilities. The average annual generation would be about 15,957 MWh.

The proposed Rokeby Lock and Dam Project would be located at the existing Rokeby dam on the Muskingum River at RM 57.4. The Rokeby dam is a 525-foot-long, 20-foot-high dam that impounds a 615-acre reservoir at a normal pool elevation of 660.3 NAVD 88. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 4 MW; (4) a 65-foot-long, 75-foot-wide draft tube; (5) a 160-foot-long, 200-foot-wide tailrace; (6) a 40-foot by 40-foot substation; (7) a 490-foot-long, three-phase, overhead 69-kV transmission line to connect the project substation to the local utility distribution lines; and (8) appurtenant facilities. The average annual generation would be about 17,182 MWh.

The applicant proposes to operate all six projects in a run-of-river mode, such that the water surface elevations within each project impoundment would be maintained at the crest of each respective dam spillway.

m. Copies of the applications are available for review at the Commission in the Public Reference Room or may be viewed on the Commission's Web site at http://www.ferc.gov using the “eLibrary” link. Enter the docket number excluding the last three digits in the docket number field to access the document. For assistance, contact FERC Online Support. Copies are also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to these or other pending projects. For assistance, contact FERC Online Support.

n. Public notice of the filing of the initial development applications, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification(s); (2) a copy of the request(s) for certification, including proof of the date on which the certifying agency received the request(s); or (3) evidence of waiver of water quality certification for each project.

p. Procedural Schedule:

The applications will be processed according to the following revised Hydro Licensing Schedule. Revisions to the schedule may be made as appropriate.

Milestone | Target date
Filing of Comments, Recommendations, Terms and Conditions, and Prescriptions | March 15, 2014.
Filing of Reply Comments | April 29, 2014.
Commission issues EA | October 29, 2014.

Dated: January 14, 2014.
Kimberly D. Bose,
Secretary.

[FR Doc. 2014-01059 Filed 1-17-14; 8:45 am]

BILLING CODE 6717-01-P